DEPARTMENT OF THE INTERIOR

Minerals Management Service

30 CFR Part 250

RIN 1010-AC43

Oil and Gas and Sulphur Operations in the Outer Continental Shelf—Oil and Gas Drilling Operations

Correction

In rule document 03-3425 beginning on page 8402 in the issue of Thursday, February 20, 2003 make the following correction:

§ 250.456 [Corrected]

On page 8432, in the first column, in § 250.456, in paragraph (i), in the second line, “hour” should read “tour”.

[FR Doc. C3-3425 Filed 3-21-03; 8:45 am]

BILLING CODE 1505-01-D